DEPARTMENT OF THE INTERIOR

Bureau of Indian Affairs

[213A2100DD/AAKC001030/A0A501010.999900]

Advisory Board of Exceptional Children

AGENCY: Bureau of Indian Affairs, Interior.

ACTION: Notice of meeting.

SUMMARY: The Bureau of Indian Education (BIE) is announcing that the Advisory Board for Exceptional Children will hold two-day online meeting. The purpose of the meeting is to meet the mandates of the Individuals with Disabilities Education Act of 2004 (IDEA) for Indian children with disabilities.

DATES: The BIE Advisory Board meeting will be held Wednesday, March 9, 2022, from 8:00 a.m. to 4:00 p.m., Mountain Standard Time (MST) and Thursday, March 10, 2022, from 8:00 a.m. to 4:00 p.m., Mountain Standard Time (MST).

ADDRESSES: All Advisory Board activities and meetings will be conducted online. See the SUPPLEMENTARY INFORMATION section of this notice for information on how to join the meeting. Public comments can be emailed to the DFO at Jennifer.davis@bie.edu; or faxed to (602) 265-0293 Attention: Jennifer Davis, DFO; or mailed or hand delivered to the Bureau of Indian Education, Attention: Jennifer Davis, DFO, 2600 N Central Ave., 12th Floor, Suite 250, Phoenix, AZ 85004.

FOR FURTHER INFORMATION CONTACT: Jennifer Davis, Designated Federal Officer, Bureau of Indian Education, 2600 N Central Ave., 12th Floor, Suite 250, Phoenix, AZ 85004, Jennifer.davis@bie.edu, or (202) 860-7845.

SUPPLEMENTARY INFORMATION: In accordance with the Federal Advisory Committee Act, the BIE is announcing the Advisory Board will hold its next meeting online. The Advisory Board was established under the Individuals with Disabilities Act of 2004 (20 U.S.C. 1400 et seq.) to advise the Secretary of the Interior, through the Assistant Secretary-Indian Affairs, on the needs of Indian children with disabilities. The meeting is open to the public.

The following agenda items will be for the March 9, 2022 and March 10, 2022 meeting. The reports are regarding special education topics from the:

• BIE Central Office

• BIE/Division of Performance and Accountability (DPA)/Special Education Program

• BIE Office of Sovereignty in Indian Education

• Four Public Commenting Sessions will be provided during both meeting days.

○ On Wednesday, March 9, 2022 two sessions (15 minutes each) will be provided, 10:15 a.m. to 10:30 a.m. MST and 1:00 p.m. to 1:15 p.m. MST. Public comments can be provided via webinar or telephone conference call. Please use the online access codes as listed below.

○ On Thursday, March 10, 2022 two sessions (15 minutes each) will be provided, 10:15 a.m. to 10:30 a.m. MST and 1:00 p.m. to 1:15 p.m. MST. Public comments can be provided via webinar or telephone conference call. Please use the online access codes as listed below.

○ Public comments can be emailed to the DFO at Jennifer.davis@bie.edu; or faxed to (602) 265-0293 Attention: Jennifer Davis, DFO; or mailed or hand delivered to the Bureau of Indian Education, Attention: Jennifer Davis, DFO, 2600 N. Central Ave. 12th floor, Suite 250, Phoenix, Arizona 85004.

To Access the Wednesday, March 9, 2022 and Thursday, March 10, 2022 Meeting You can join the meetings through any of the following means:

Join Meeting: https://www.zoomgov.com/j/1618080345?pwd=ZDJhWmFxZm5MakZoZWg2MlVXbENmUT09. Meeting ID: 161 808 0345; Passcode: 767283.

One tap mobile:

+16692545252,,1618080345#,,,,*767283# US (San Jose)

+16692161590,,1618080345#,,,,*767283# US (San Jose)

Dial by your location: +1 669 254 5252 US (San Jose); +1 669 216 1590 US (San Jose); +1 646 828 7666 US (New York); +1 551 285 1373 US. Meeting ID: 161 808 0345; Passcode: 767283.

Find your local number: https://www.zoomgov.com/u/abPNs0r3nG.

(Authority: 5 U.S.C. Appendix 5; 20 U.S.C. 1400 et seq.)

Bryan Newland,
Assistant Secretary—Indian Affairs.

[FR Doc. 2022-02163 Filed 2-2-22; 8:45 am]

BILLING CODE 4337-15-P